NATIONAL LABOR RELATIONS BOARD

Sunshine Act Meeting

Agency Holding the Meeting: National Labor Relations Board.

Time and Date: 3 p.m. Tuesday, January 7, 2003.

Place: Board Conference Room, Eleventh Floor, 1099 Fourteenth St., NW., Washington, DC 20570.

Status: Closed to public observation pursuant to 5 U.S.C. section 552b(c)(2) (internal personnel rules and practices); and (9)(B) (disclosure would significantly frustrate implementation of a proposed agency action . . .).

Matters to be Considered:

Internal Administrative Matters.

Contact person for more information: Lester A. Heltzer, Acting Executive Secretary, Washington, DC 20570, Telephone: (202) 273-1067.

Dated: Washington, DC, January 7, 2003.
By the Direction of the Board.
Lester A. Heltzer,
Acting Executive Secretary.

[FR Doc. 03-612 Filed 1-8-03; 12:20 pm]

BILLING CODE 7545-01-M